DEPARTMENT OF DEFENSE

Department of the Army, Corps of Engineers

33 CFR Part 334

Naval Restricted Area, Naval Station Everett, Washington

AGENCY: United States Army Corps of Engineers, DoD.

ACTION: Notice of proposed rulemaking and request for comments.

SUMMARY: The Corps of Engineers is proposing to establish a new restricted area in the waters surrounding Naval Station Everett at Everett, Washington. The designation would effectively establish a 300-foot safety zone around moored vessels and the major piers of this naval base, and lesser distances from its other piers, basins, and shorelines. All persons and vessels would be prohibited from entering or using the waters of the restricted area without prior written permission from the Commanding Officer of the Naval Station Everett. The purpose of the restricted area is to ensure public safety and satisfy the Navy's security, safety, and operational requirements pertaining to the moorage and movement of capital ships and other vessels at a major naval base.

DATES: Written comments must be submitted on or before September 12, 2001.

ADDRESSES: U.S. Army Corps of Engineers, ATTN: CECW-OR, 20 Massachusetts Avenue, N.W., Washington D. C. 20314-1000

FOR FURTHER INFORMATION CONTACT: Mr. Frank Torbett, Headquarters Regulatory Branch, Washington D.C. at (202) 761-4618 or Mr. Jack Kennedy, Corps of Engineers Seattle District, at (206) 764-6907.

SUPPLEMENTARY INFORMATION: Pursuant to its authorities in Section 7 of the Rivers and Harbors Act of 1917 (40 Stat. 266; 33 U.S.C. 1) and Chapter XIX of the Army Appropriation Act of 1919 (40 Stat. 892; 33 U.S.C. 3) the Corps proposes to amend the regulations in 33 CFR part 334 by adding a new Section 334.1215 which would establish a new naval restricted area in the waters of Port Gardner and East Waterway surrounding Naval Station Everett, at Everett, Washington. The points defining the proposed restricted area were selected to avoid any interference with vessel use of the lower reaches of the Snohomish River Waterway, and to minimize the restricted area's encroachment into the waters of East Waterway utilized by adjoining industrial and commercial ventures and the general public.

Procedural Requirements

a. Review Under Executive Order 12866

This proposed rule is issued with respect to a military function of the Defense Department and the provisions of Executive Order 2866 do not apply.

b. Review Under the Regulatory Flexibility Act

This proposed rule has been reviewed under the Regulatory Flexibility Act (Public Law 96-354), which requires the preparation of a regulatory flexibility analysis for any regulation that will have a significant economic impact on a substantial number of small entities (i.e., small businesses and small governments). The Corps expects that the economic impact of the establishment of this restricted area would have no impact on the public, no anticipated navigational hazard or interference with existing waterway traffic, and accordingly, certifies that this proposal, if adopted, will have no significant economic impact on small entities.

c. Review Under the National Environmental Policy Act

The Seattle District has prepared a preliminary Environmental Assessment (EA) for this action. The preliminary EA concluded that this action will not have a significant impact on the human environment. After receipt and analysis of comments from this Federal Register posting and the Seattle District's concurrent Public Notice, the Corps will prepare a final environmental document detailing the scale of impacts this action will have upon the human environment. The environmental assessment may be reviewed at the District Office listed at the end of FOR FURTHER INFORMATION CONTACT, above.

d. Unfunded Mandates Act

This proposed rule does not impose an enforceable duty among the private sector and, therefore, is not a Federal private sector mandate and is not subject to the requirements of Section 202 or 205 of the Unfunded Mandates Act. We have also found under Section 203 of the Act that small governments will not be significantly and uniquely affected by this rulemaking.

List of Subjects in 33 CFR Part 334

Danger zones, Marine safety, Restricted areas, Waterways.

For the reasons set out in the preamble, we propose to amend 33 CFR Part 334 to read as follows:

PART 334—DANGER ZONE AND RESTRICTED AREA REGULATIONS

1. The authority citation for Part 334 continues to read as follows:

Authority: 40 Stat. 266 (33 U.S.C. 1) and 40 Stat. 892 (33 U.S.C. 3).

2. Section 334.1215 is added to read as follows:

§ 334.1215 Port Gardner, Naval Station Everett, Everett, WA; Naval Restricted Area.

(a) The area. The waters of Port Gardner and East Waterway surrounding Naval Station Everett beginning at Point 1, a point near the northwest corner of Naval Station Everett at latitude 47° 59′ 40″ North, longitude 122° 13′ 23.5″ West and thence to latitude 47° 59′ 40″ North, longitude 122° 13′ 30″ West (Point 2); thence to latitude 47° 59′ 20″ North, longitude 122° 13′ 33″ West (Point 3); thence to latitude 47° 59′ 13″ North, longitude 122° 13′ 38″ West (Point 4); thence to latitude 47° 59′ 05.5″ North, longitude 122° 13′ 48.5″ West (Point 5); thence to latitude 47° 58′ 51″ North, longitude 122° 14′ 04″ West (Point 6); thence to latitude 47° 58′ 45.5″ North, longitude 122° 13′ 53″ West (Point 7); thence to latitude 47° 58′ 45.5″ North, longitude 122° 13′ 44″ West (Point 8); thence to latitude 47° 58′ 48″ North, longitude 122° 13′ 40″ West (Point 9); thence to latitude 47° 58′ 59″ North, longitude 122° 13′ 30″ West (Point 10); thence to latitude 47° 59′ 14″ North, longitude 122° 13′ 18″ West (Point 11); thence to latitude 47° 59′ 13″ North, longitude 122° 13′ 12″ West (Point 12); thence to latitude 47° 59′ 20″ North, longitude 122° 13′ 08″ West (Point 13); thence to latitude 47° 59′ 20″ North, longitude 122° 13′ 02.5″ West (Point 14), a point upon the Naval Station's shore in the northeast corner of East Waterway.

(b) The regulations. (1) All persons and vessels are prohibited from entering the waters within the restricted area for any reason without prior written permission from the Commanding Officer of the Naval Station Everett.

(2) Mooring, anchoring, fishing and/or recreational boating shall not be allowed within the restricted area without prior written permission from the Commanding Officer of the Naval Station Everett.

(c) Enforcement. The regulations in this section shall be enforced by the Commander, Navy Region Northwest, and such agencies and persons as he/she shall designate.

Dated: August 6, 2001.
Lawrence A. Lang,
Deputy, Operations Division, Directorate of Civil Works.

[FR Doc. 01-20231 Filed 8-10-01; 8:45 am]

BILLING CODE 3710-GB-P